DEPARTMENT OF JUSTICE

Notice of Lodging of Consent Decree Under The Resource Conservation and Recovery Act (RCRA)

In accordance with Departmental policy, 28 CFR 50.7, notice is hereby given that on July 8, 2011, a proposed Consent Decree in United States and State of Florida Department of Environmental Protection v. Hi-Acres, LLC, d/b/a Foremost Fertilizer, Civil Action No. 5:11-cv-00389-WTH-KRS, was lodged with the United States District Court for the Middle District of Florida, Ocala Division.

The Consent Decree represents the settlement of claims brought by the United States and State of Florida Department of Environmental Protection (“FDEP”) for violations by Hi-Acres at a retail sales outlet for pesticides, herbicides, and fertilizers located in Leesburg, Lake County, Florida. The Complaint alleged, inter alia, violations of the Resource Conservation and Recovery Act (“RCRA”) Section 3008(a), 42 U.S.C. 6928(a), and the federal regulations promulgated at 40 CFR Parts 260 through 279; the authorized hazardous waste management regulations of the State of Florida, relating to the generation, transportation, treatment, storage, handling and disposal of hazardous wastes, Fla. Admin. Code Chapter 63-740, et seq; and Fla. Stat. § 403.727; and of RCRA Section 3004(d), 42 U.S.C. 6924(d), and Fla. Stat. Chapter 403 (Environmental Control), Part IV. (Resource Recovery Management), relating to the disposal of hazardous wastes restricted from land disposal.

Under the Consent Decree, Hi-Acres must commence site rehabilitation in accordance with State of Florida rules and regulations for all solid waste management units and areas of contamination that are identified on the appendix to the Consent Decree. Hi-Acres is required to provide any necessary revisions to its Contamination Assessment Protection Plan, along with any proposed alternate schedules for completing the required work. Hi-Acres will be required under the Consent Decree to submit periodic status reports to FDEP. Once the site is cleaned up, Hi-Acres shall submit to FDEP a site rehabilitation completion report. Hi-Acres will further be required to submit a plan for all necessary environmental monitoring to ensure the effectiveness of the on-going cleanup, including groundwater monitoring. Hi-Acres will be required to pay a penalty of $400,000, evenly split between EPA and the FDEP, along with interest, per the terms of the Consent Decree.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Florida Department of Environmental Protection v. Hi-Acres, LLC, d/b/a Foremost Fertilizer, Inc. D.J. Ref. 90-7-1-09265.

The Consent Decree may be examined at U.S. EPA Region 4, Atlanta Federal Center, 61 Forsyth Street, Atlanta, Georgia 30303. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (for the Consent Decree only) and $17.00 for the Consent Decree and all exhibits thereto) (25 cents per page reproduction cost) payable to the U.S. Treasury or, if by email or fax, forward a check in that amount to the Consent Decree Library at the stated address.

Henry Friedman,
Assistant Section Chief, Environmental Enforcement Section, Environment and Natural Resources Division.

[FR Doc. 2011-17927 Filed 7-15-11; 8:45 am]

BILLING CODE 4410-15-P